DEPARTMENT OF LABOR

Employment and Training Administration

[TA-W-54,002]

Asti, Inc., Transaction Printer Group, Inc., Riverton, Wyoming; Notice of Negative Determination Regarding Application for Reconsideration

By application of March 21, 2004, a petitioner requested administrative reconsideration of the Department's negative determination regarding eligibility for workers and former workers of the subject firm to apply for Trade Adjustment Assistance (TAA). The denial notice was signed on February 25, 2004 and published in the Federal Register on April 6, 2004 (69 FR 18109).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a misinterpretation of facts or of the law justified reconsideration of the decision.

The TAA petition, filed on behalf of workers at Asti, Inc., Transaction Printer Group, Inc., Riverton, Wyoming engaged in the production of impact printers, was denied because the “contributed importantly” group eligibility requirement of Section 222 of the Trade Act of 1974, as amended, was not met. The “contributed importantly” test is generally demonstrated through a survey of the workers' firm's customers. The Department conducted a survey of the subject firm's major customers regarding their purchases of impact printers in 2002 and 2003. The respondents reported no increased imports. The subject firm did not increase its reliance on imports of impact printers during the relevant period, nor did it shift production to a foreign source.

The petitioner alleges that the layoffs at the subject firm are attributed to a shift in production from Riverton plant and from another manufacturing facility in Ithaca, New York to Mexico in 1999. To support this statement, the petitioner attached a letter signed by the General Manager of Axiohm dated July 28, 1999 which announces a shift of manufacturing operations from the Riverton plant to be completed by December 1999.

A company official was contacted to clarify whether a shift in production occurred within the subject firm during 2003 and 2004. The official confirmed directly that there was no shift in production from the subject firm to the Mexican facility in the relevant time period. A shift to Mexico mentioned by the petitioner took place in 1999, which is outside of the relevant time period.

The official further stated that though the subject firm does own a facility in Mexico, products manufactured there are not like or directly competitive with those manufactured at the Riverton plant.

Conclusion

After review of the application and investigative findings, I conclude that there has been no error or misinterpretation of the law or of the facts which would justify reconsideration of the Department of Labor's prior decision. Accordingly, the application is denied.

Signed at Washington, DC, this 21st day of May, 2004.
Linda G. Poole,
Certifying Officer, Division of Trade Adjustment Assistance.

[FR Doc. 04-12385 Filed 6-1-04; 8:45 am]

BILLING CODE 4510-30-P